DEPARTMENT OF TRANSPORTATION

Research and Special Programs Administration (RSPA), DOT

[Docket No. RSPA-99-6355]

Pipeline Safety: Pipeline Integrity Management in High Consequence Areas (Hazardous Liquid Operators With 500 or More Miles of Pipeline)

AGENCY: Office of Pipeline Safety, Research and Special Programs Administration, DOT.

ACTION: Notice of workshop.

SUMMARY: This notice announces two, two-day workshops on 49 CFR part 195.452, “Pipeline Integrity Management in High Consequence Areas”, effective May 29, 2001. On Day 1, OPS will familiarize participants with the new requirements, and present and seek comments on the approach OPS plans to use for achieving compliance. On Day 2, OPS will provide a forum for participants to share and discuss noteworthy integrity management practices that achieve compliance with the rule.

Workshop Dates and Addresses

(1) The first workshop will be on August 7-8, 2001, from 8:30 a.m. to 5 p.m., at the DoubleTree Hotel Post Oak, 2001 Post Oak Boulevard, Houston, Texas, 77056, 713-961-9300 or 800-566-5216. No later than July 23, 2001, rooms may be reserved within a block identified as “DOT/IMP Public Meeting Block”.

(2) The second workshop will be on October 10-11, from 8:30 a.m. to 5 p.m., at the Renaissance Houston Hotel, 6 Greenway Plaza East, Houston, Texas, 77046, 713-629-1200 or 800-Hotels-1. No later than September 12, 2001, rooms may be reserved within a block identified as “DOT/IMP Public Meeting Block”.

FOR FURTHER INFORMATION CONTACT: Beth Callsen (tel: 202-366-4572; E-mail: beth.callsen@rspa.dot.gov). For event planning purposes, please let Ms. Callsen know if you will attend. Also notify Ms. Callsen if you are interested in being a presenter on Day 2 of one or both of the workshops. You can read comments and other related material in the docket on the Internet at: http://dms.dot.gov.

SUPPLEMENTARY INFORMATION:

1. Background

OPS's integrity management initiative is intended to improve safety and environmental protection and to provide better assurance to the public about the safety of pipelines. It is also intended to comprehensively address National Transportation Safety Board (NTSB) recommendations, Congressional mandates and pipeline safety and environmental issues raised over the years. It is based on the culmination of experience OPS has gained from pipeline inspections, accident investigations and risk management and system integrity initiatives.

OPS's first integrity management rule (65 FR 75378), issued on November 3, 2000 and effective on May 29, 2001, applies to hazardous liquid operators who own or operate 500 or more miles of pipeline. The rule applies to pipelines that can affect high consequence areas (HCAs), which include populated areas defined by the Census Bureau as urbanized areas or places, unusually sensitive environmental areas, and commercially navigable waterways.

OPS believes that the new rule requires fundamental change in the integrity management practices of many affected pipeline operators. As compliance deadlines approach, OPS is hosting two workshops to promote a better understanding of the new requirements, and to discuss compliance approaches operators are applying to various aspects of the rule. OPS will host additional workshops if needed.

Day 1: Integrity Management Rule—Compliance and Available Resources

Day 1 will feature presentations intended to familiarize participants with the rule requirements and available resources and guidance material. OPS will also present and seek comment on the inspection approach OPS is developing to achieve compliance. Topics will include:

• The rule requirements

• API Standard 1160

• The National Pipeline Mapping System

• The proposed inspection approach

—Segment identification inspection and completeness check

—Comprehensive program reviews

—Inspection of operator program implementation

—Managing operator notifications

—Enforcement

—Clearinghouse and points of contact for questions about the rule

• Additional resources for the industry

• Questions and Answers

Day 2: Forum to Share Noteworthy Integrity Management Practices

Day 2 will feature a series of presentations by pipeline operators on features of their Integrity Management Programs that OPS believes merit wider dissemination. Via the presentations, OPS hopes to encourage a peer-to-peer exchange among operators of innovative approaches being developed to enhance pipeline integrity and comply with the rule. Each presentation will be followed by an open discussion among meeting participants. Based on these discussions, OPS will kick-off development of an on-line forum that will enable continued exchanges between federal and state regulators, representatives of public interest and environmental organizations, the pipeline industry, and other interested parties about noteworthy practices.

Issued in Washington, DC, on June 27, 2001.
Stacey L. Gerard,
Associate Administrator for Pipeline Safety.

[FR Doc. 01-16664 Filed 7-2-01; 8:45 am]

BILLING CODE 4910-60-P